DEPARTMENT OF COMMERCE

International Trade Administration

[C-570-136]

Certain Chassis and Subassemblies Thereof From the People's Republic of China: Postponement of Preliminary Determination in the Countervailing Duty Investigation

AGENCY: Enforcement and Compliance, International Trade Administration, Department of Commerce.

DATES: Applicable October 7, 2020.

FOR FURTHER INFORMATION CONTACT: William Langley at (202) 482-3861, AD/CVD Operations, Office I, Enforcement and Compliance, International Trade Administration, U.S. Department of Commerce, 1401 Constitution Avenue NW, Washington, DC 20230.

SUPPLEMENTARY INFORMATION:

Background

On August 19, 2020, the Department of Commerce (Commerce) initiated a countervailing duty (CVD) investigation of imports of certain chassis and subassemblies thereof (chassis) from the People's Republic of China (China).¹ Currently, the preliminary determination is due no later than October 23, 2020.

¹ See Certain Chassis and Subassemblies Thereof from the People's Republic of China: Initiation of Countervailing Duty Investigation, 85 FR 52549 (August 19, 2020) (Initiation Notice).

Postponement of Preliminary Determination

Section 703(b)(1) of the Tariff Act of 1930, as amended (the Act), requires Commerce to issue the preliminary determination in a countervailing duty investigation within 65 days after the date on which Commerce initiated the investigation. However, section 703(c)(1) of the Act permits Commerce to postpone the preliminary determination until no later than 130 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On September 17, 2020, the petitioner ² submitted a timely request that Commerce postpone the preliminary CVD determination.³ The petitioner stated that it requests postponement to permit parties time to review information submitted by the Government of China and the mandatory respondents, which is currently due no later than October 13, 2020, ten days before the unextended preliminary determination.⁴ In accordance with 19 CFR 351.205(e), the petitioner has stated the reasons for requesting a postponement of the preliminary determination, and Commerce finds no compelling reason to deny the request. Therefore, in accordance with section 703(c)(1)(A) of the Act, Commerce is postponing the deadline for the preliminary determination to no later than 130 days after the date on which this investigation was initiated, i.e., December 28, 2020. Pursuant to section 705(a)(1) of the Act and 19 CFR 351.210(b)(1), the deadline for the final determination of this investigation will continue to be 75 days after the date of the preliminary determination.

² The petitioner is the Coalition of American Chassis Manufacturers.

³ See Petitioner's Letter, “Certain Chassis and Subassemblies Thereof from the People's Republic of China: Request for Postponement of Preliminary Determination,” dated September 17, 2020.

⁴ Id.

This notice is issued and published pursuant to section 703(c)(2) of the Act and 19 CFR 351.205(f)(1).

Dated: October 1, 2020.
Jeffrey I. Kessler,
Assistant Secretary for Enforcement and Compliance.

[FR Doc. 2020-22177 Filed 10-6-20; 8:45 am]

BILLING CODE 3510-DS-P